DEPARTMENT OF COMMERCE

National Oceanic and Atmospheric Administration

50 CFR Part 660

[I.D. 101805D]

Western Pacific Fishery Management Council; Public Meetings

AGENCY: National Marine Fisheries Service (NMFS), National Oceanic and Atmospheric Administration (NOAA), Commerce

ACTION: Notice of public meetings and hearings.

SUMMARY: The Western Pacific Fishery Management Council (Council) will hold its 129th meeting to consider and take actions on fishery management issues in the Western Pacific Region.

DATES: The 129th Council meeting and public hearings will be held on November 8-11, 2005. For specific times, and the agenda, see SUPPLEMENTARY INFORMATION.

ADDRESSES: The 129th Council meeting and public hearings will be held at the Hilton Guam, 202 Hilton Road, Tumon Bay, Guam; telephone: 671-646-1835.

FOR FURTHER INFORMATION CONTACT: Kitty M. Simonds, Executive Director; telephone: (808)522-8220.

SUPPLEMENTARY INFORMATION: In addition to the agenda items listed here, the Council will hear recommendations from other Council advisory groups. Public comment periods will be provided throughout the agenda. The order in which agenda items are addressed may change. The Council will meet as late as necessary to complete scheduled business.

Schedule and Agenda for Council Standing Committee Meetings

Tuesday, November 8, 2005

Standing Committee

7-8 a.m. Ecosystem and Habitat Standing Committee

8-9 a.m. Pelagics and International Standing Committee

9-11 a.m. Executive and Budget Standing Committee

11 a.m.-12 noon Precious Corals Standing Committee

Schedule and Agenda for Public Hearings

Wednesday, November 9, 2005

1:30 p.m. Hawaii Black Coral Management

Thursday, November 10, 2005

11:30 a.m. Management of Hawaii Longline Swordfish Fishery

11:45 a.m. Management to address overfishing of Western and Central Pacific Ocean Yellowfin

Friday, November 11, 2005

11:30 a.m. Western Pacific Fishery Ecosystem Plans

11:45 a.m. Commonwealth of the Northern Mariana Islands (CNMI) Fishery Ecosystem Plan Pilot Project

For more information on public hearing items, see Background Information.

The agenda during the full Council meeting will include the items listed here.

Schedule and Agenda for Council Meeting

8 a.m.-2:15 p.m. Wednesday, November 9, 2005

1. Opening Ceremony

2. Greetings from the Governor of Guam

3. Presentations to Ecosystem Poster Contest Winners

4. Introductions

5. Approval of agenda

6. Approval of 127th and 128th meeting minutes

7. Island reports

A. American Samoa

B. Guam

C. Hawaii

D. Commonwealth of the Northern Mariana Islands (CNMI)

8. Reports from fishery agencies and organizations

A. NMFS

1. Pacific Islands Regional Office

a. Report on Observer Placement Protocol

2. Pacific Islands Fisheries Science Center

B. The Department of the Interior - The U.S. Fish and Wildlife Service (USFWS)

C. NOAA General Counsel Southwest Region/Pacific Islands Region

D. State Department

9. Enforcement/vessel monitoring systems

A. Report on United States Coast Guard activities

B. NOAA Office of Law Enforcement (OLE) Activities

C. Status of Violations

D. Report from Guam Enforcement Agency

10. Fishery Rights of Indigenous Peoples

A. Guam voluntary data collection program

B. Community Demonstration Projects Program

1. Guam Longline Project

2. CNMI Remote Fishing Stations

C. Communities Program

D. Scientific and Statistical Committee (SSC) Recommendations

11. Bottomfish Fisheries

A. Report on Guam Bottomfish Fishery

B. Main Hawaiian Islands Bottomfish Overfishing Options

C. Plan Team Comments

D. SSC Recommendations

12. Precious Coral Fisheries

A. Black Coral Management and Research

1. Hawaii Black Coral Management

a. State of Hawaii Black Coral Research

b. Black Coral Management Options (Final Action)

B. Plan Team Recommendations

C. SSC Recommendations

D. Standing Committee Recommendations

E. Public Hearing on Hawaii Black Coral Management

13. Crustacean Fisheries

A. Report on Guam's Crustacean Fishery

B. Northwestern Hawaiian Islands Spiny Lobster Model Report

C. Plan Team Recommendations

D. SSC Recommendations

8:30 a.m.-5 p.m. Thursday, November 10, 2005

14. Pelagic/International Fisheries

A. Report on Guam's Pelagic Fisheries

B. Pelagic Fishery Management Plan Actions

1. Management of Hawaii Longline Swordfish Fishery (Initial Action)

2. Overfishing of Western and Central Pacific Ocean Yellowfin (Initial Action)

3. Management of Fish Aggregation Devices (FAD)

4. Definition of short-longlines

5. Main Hawaiian Islands Longline buffer zones

6. American Samoa FAD closures

C. International Fisheries Management

1. Inter-American Tropical Tuna Convention

2. Western and Central Pacific Fishery Commission

3. Pacific Islands Regional Office International Division Activities

4. Other International issues: Eastern Pacific Ocean Yellowfin and North Pacific Albacore Stock Condition

D. American Samoa and Hawaii Longline Fisheries Quarterly Reports

E. Plan Team Recommendations

F. SSC Recommendations

F. Standing Committee Recommendations

G. Public Hearings

Management of Hawaii Longline Swordfish Fishery (Initial Action)

Overfishing of Western and Central Pacific Ocean Yellowfin (Initial Action)

15. Protected Species

A. International Fishers Forum III

B. Malaysia Longline Bycatch Workshop

C. Haggan (Turtle) Watch Program

D. CNMI Turtle Watch Program

E. Longline Mitigation Research

F. SSC Recommendations

16. Ecosystems and Habitat

A. Western Pacific Fishery Ecosystem Plans (FEP)(FINAL ACTION)

1. FEP Objectives

2. FEP Boundaries

3. FEP Management Unit Species

4. FEP Regional Coordination

B. CNMI FEP Pilot Project (Initial Action)

1. Project Overview

2. Ecosystem Indicators

3. Commonwealth and Guam Inshore Community-based Initiatives

4. Guam Offshore Banks Management Options

C. Public Comment

6:30-9 p.m. Thursday November 10, 2005

Fishers Forum at the Guam Fishermen's Cooperative

8:30 a.m.-3 p.m. Friday, November 11, 2005

Ecosystems and Habitat Continued

D. Report on Guam's Coral Reef Fisheries

E. Guam Reef Ecosystem Annual Report

F. Reconstruction of Coral Reef and Bottomfish Catches

G. CNMI Sanctuary Program

H. National Marine Sanctuary Program (NMSP)

1. NMSP Report

2. NOAA Review of Council Northwestern Hawaiian Islands Draft Fishing Regulations

I. Report from Plan Teams

J. SSC recommendations

K. Standing Committee Recommendations

L. Public Hearing on Western Pacific Ecosystem Plans and CNMI Pilot Project.

17. Program Planning

A. Update on Legislation

B. Magnuson-Steven Fishery Conservation and Management Act (Magnuson Act) Reauthorization

C. Education and Outreach Report

18. Administrative Matters and Budget

A. Financial Reports

B. Administrative Report

C. Meetings and Workshops

D. Advisory Group Changes

E. Standing Committee Recommendations

19. Other Business

A. National Plan of Action on Fishing Capacity

B. Next Meeting

Background Information

1. Change in the Black Coral Harvest Minimum Size (Final action)

The Council will take final action to implement a regulatory amendment to the Precious Corals FMP to revise the minimum harvest size for black corals (Antipathes sp.) due to the effects of Carijoa riisei and harvest pressure on black corals in the Main Hawaiian Islands. Based on comments received during Precious Coral Plan Team meetings, as well as subsequent SSC, Council, and public working group meetings, the Council developed an options document that includes: (1) Removing the exemption allowing harvest of black corals with a minimum base diameter of 3/4 inch (1.905-cm) or minimum height of 36 inches (0.9144 m) by persons who reported harvest to the State of Hawaii within five years prior to April 17, 2002; (2) Establishing a 48-inch (1.2192-m) minimum height only requirement for harvest of black coral colonies; (3) Eliminating any minimum base diameter requirement; (4) Eliminating any minimum height requirement; (5) Removing the exemption and minimum base diameter requirement; (6) Removing the exemption and minimum height requirement; and (7) Instituting a moratorium on black coral harvest. At its 127th meeting, the Council took initial action to identify and support a range of alternatives, including the selection of a preliminary preferred alternative. The Council's preliminary preferred alternative was to remove the exemption allowing harvest of black corals with a minimum base diameter of 3/4 inch (1.905-cm) or minimum height of 36 inches(0.9144 m) by persons who reported harvest to the State of Hawaii within five years prior to April 17, 2002. Under this alternative, all black coral would be harvested at a minimum base size of 1-inch or minimum height of 48 inches (1.2192-cm). At the 129th Council Meeting, the Council will select a preferred alternative to be analyzed in a regulatory amendment to be transmitted to NMFS.

2. Management of Hawaii Longline Swordfish Fishery (Initial action)

The swordfish segment of the Hawaii longline fishery was reopened in April 2004, following an amendment to the Fishery Management Plan for the Pelagic Fisheries of the Western Pacific Region (Pelagics FMP) to introduce new technology for turtle conservation. The Pelagics FMP amendment required all longliners fishing for swordfish, employing shallow (< 30 m) sets, to use 18/0 circle hooks with a 10° offset, and mackerel type bait. This hook and bait combination has been shown to markedly reduce catches of endangered loggerhead and leatherback turtles. As an added precaution, a 'hard' cap on the allowable number of interactions with loggerhead and leatherback turtles was also included in the amendment. If the swordfish targeting fleet caught more than 16 leatherback and 17 loggerhead turtles in any calendar year, then the swordfish fishery would close for the remainder of the year. In addition, a cap was placed on the annual volume of fishing effort, of 2,120 sets, for the swordfish-targeting segment of the Hawaii-based longline fishery. The number of sets was divided equally among all fishermen expressing an interest in targeting swordfish, with each set being accorded a unique numbered certificate, which had to be reported when used.

Finally, all vessels targeting swordfish were obliged to carry an observer to record any turtle interactions. Few swordfish sets were made in 2004, but in 2005 the fishery began operating in earnest. As of August 15, 2005, the swordfish fleet had a total of 7 interactions with leatherback turtles and 9 loggerhead interactions, with about 80 percent of the number of longline sets used up. Given the success of these management measures in greatly reducing turtle interactions, particularly the hard cap on turtle interactions, there may be no need to maintain a cap on swordfish directed fishing effort. Moreover, the administration of the 2,120 longline sets (50 percent of the historical level of swordfish effort) is a substantial burden on NMFS for little to no conservation gains for turtles, given the incentive to fishermen to minimize interactions afforded by the caps on loggerhead and leatherback turtles, and the success of the hook/bait combination in reducing turtle captures. Consequently, the Council is proposing to amend the Pelagics FMP to remove the cap on shallow set fishing effort while maintaining the turtle caps and other measures to conserve turtles. At the 129th Council meeting, the Council may decide to take initial action to modify the cap on swordfish-targeting longline sets.

3. Overfishing of Western and Central Pacific Ocean Yellowfin (Initial action)

Results of the most recent stock assessments for yellowfin tuna reviewed by the Inter-American Tropical Tuna Commission (IATTC), and the Western and Central Pacific Fishery Commission (WCPFC) indicate that this species is fished at unsustainably high levels in the Pacific Ocean. Although the stock is not yet overfished, is it is being subjected to overfishing, as defined under the Council's control rule, as established by National Standard 1 in the Magnuson-Stevens Act. As required by the Magnuson Stevens Act (16 U.S.C. 1854 (e)(3)) and the implementing regulations at 50 CFR 600.310(e)(3), the Councils must take action to address overfishing within one year of an identification by the Secretary of Commerce that overfishing is occurring. Although, no official communication has yet been received by the Council from the Secretary of Commerce concerning overfishing of Pacific yellowfin the Council may decide, nevertheless, to take initial action at this meeting to address this issue in a timely manner.

At its 126th meeting, the Council took final action on an amendment to the Pelagics FMP to address similar overfishing of Pacific bigeye tuna. It was recognized in this amendment that unilateral action by the Council would be insufficient to end overfishing of bigeye tuna and the same is also true for yellowfin tuna. Accordingly, the Council amended the Pelagics FMP to include a protocol by which the Council would take action on international management of highly migratory species such as tunas managed by regional fishery management organizations (RFMOs) such as IATTC and WCPFC. This includes ensuring Council inclusion in US delegations to international fishery management meetings and the drafting of position papers on measures to reduce overfishing and rebuild stocks. This would include consideration of the reduction of purse seine effort around fish aggregating devices which are thought to be one of the key elements leading to overfishing of yellowfin tuna. The Council will review Pelagic Plan team and Scientific and Statistical Committee comments and recommendations and may take initial action on how to deal with the overfishing of yellowfin tuna in the Western and Central Pacific.

4. Western Pacific Fishery Ecosystem Plans

The Council will consider final action to implement the framework necessary to transform their existing species-based Fishery Management Plans (Pelagics, Bottomfish and Seamount Groundfish, Crustaceans, Precious Corals, and Coral Reef Ecosystems) into place-based Fishery Ecosystem Plans. Specifically the measures being considered by the Council at this time would establish Fishery Ecosystem Plans with appropriate boundaries, management unit species and advisory structures. The measures being considered would re-order the current fishery regulations by geographic area, but would not add any new regulations. This action will allow the Council to begin the integration and implementation of ecosystem approaches to management for each ecosystem under its jurisdiction and provide mechanisms for broader input to the Council decision making process. The Council will review the comments and recommendations of the Joint Plan Teams (Pelagics, Bottomfish and Seamount Groundfish, Crustaceans, Precious Corals, and Coral Reef Ecosystems) and the Scientific and Statistical Committee and may take final action on adopting this framework for implementation.

5. CNMI Fishery Ecosystem Plan Pilot Project

The Council will consider initial action to begin implementation of ecosystem-based strategies for the Mariana Archipelago Fishery Ecosystem Plan (FEP). The strategies being considered at this time were developed through a 10 month pilot project initiated by the Council and will address: (1) monitoring and forecasting of ecological change; (2) community-based participation to foster collaboration among management partners; and 3) options for a specific management experiment at offshore banks in Guam's Exclusive Economic Zone that is intended to generate learning and feedback for adaptive management. The Council will review the comments and recommendations of the Joint Plan Teams (Pelagics, Bottomfish and Seamount Groundfish, Crustaceans, Precious Corals, and Coral Reef Ecosystems) and the Scientific and Statistical Committee and may take initial action on adopting these strategies for implementation.

This pilot project is linked to the Council's initiative to transform the existing species-based Fishery Management Plans (Pelagics, Bottomfish and Seamount Groundfish, Crustaceans, Precious Corals, and Coral Reef Ecosystems) into place-based Fishery Ecosystem Plans.

Although non-emergency issues not contained in this agenda may come before the Council for discussion, those issues may not be the subject of formal Council action during this meeting. Council action will be restricted to those issues specifically listed in this document and any issue arising after publication of this document that requires emergency action under section 305(c) of the Magnuson-Stevens Act, provided the public has been notified of the Council's intent to take final action to address the emergency.

Special Accommodations

These meetings are physically accessible to people with disabilities. Requests for sign language interpretation or other auxiliary aids should be directed to Kitty M. Simonds, (808)522-8220 (voice) or (808)522-8226 (fax), at least 5 days prior to the meeting date.

Authority: 16 U.S.C. 1801 et seq.

Dated: October 19, 2005.
Alan D. Risenhoover,
Acting Director, Office of Sustainable Fisheries, National Marine Fisheries Service.

[FR Doc. 05-21300 Filed 10-24-05; 8:45 am]

BILLING CODE 3510-22-S